DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

CSX Transportation (Waiver Petition Docket Number FRA-2008-0111)

CSX Transportation (CSXT) petitioned FRA for a waiver from 49 CFR 213.113(a) to permit variance from the accepted practice of stop/start rail test hand verification for a continuous rail test pilot project for a period of 8 weeks on the main tracks of the North End subdivision between Richmond, Virginia, and Rocky Mount, North Carolina, milepost limits A0.0-123.2. Prior to beginning the pilot project, the North End subdivision main tracks will be rail tested with a conventional stop/start rail test vehicle and any normally scheduled intervals during the pilot project will be maintained by convention stop/start rail test vehicle.

The continuous high speed rail test vehicle will be a self propelled rail-bound ultrasound Sperry car operating at speeds up to 25 miles per hour in non-stop mode making weekly runs. Upon completion of each run, data will be analyzed offline by a group of experts with experience in this process. The analysis will categorize and prioritize suspect defect locations. Two teams of verifiers will then be sent out with field instruments to check locations based upon Global Positioning System (GPS) coordinates. Locations will be checked 60 feet either side of suspect GPS point. Remedial actions will be applied as per 49 CFR 213.113 for confirmed rail defects. CSXT states that continuous rail testing will provide the capability to test track more frequently, minimizing the risk of rail service failure.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0111) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on October 23, 2008.
Grady C. Cothen, Jr.,
Deputy Associate Administrator for Safety Standards and Program Development.

[FR Doc. E8-25844 Filed 10-29-08; 8:45 am]

BILLING CODE 4910-06-P